DEPARTMENT OF ENERGY

Federal Energy Regulatory Commission

[Docket Nos. CP19-502-000; PF17-8-000]

Commonwealth LNG, LLC; Notice of Application

Take notice that on August 20, 2019, Commonwealth LNG, LLC (Commonwealth), at One Riverway, Suite 500, Houston, Texas 77056, filed an application in the above reference docket an application pursuant to section 3 of the Natural Gas Act (NGA) to construct and operate a natural gas liquefaction and export facility and an associated NGA section 3 pipeline in Cameron Parish, Louisiana, referred as the Commonwealth LNG Project, all as more fully set forth in the application which is on file with the Commission and open to public inspection. The filing is available for review at the Commission in the Public Reference Room or may be viewed on the Commission's website web at http://www.ferc.gov using the “eLibrary” link. Enter the docket number excluding the last three digits in the docket number field to access the document. For assistance, contact FERC at FERCOnlineSupport@ferc.gov or call toll-free, (866) 208-3676 or TYY, (202) 502-8659.

Commission staff has determined that this project qualifies as a Major Infrastructure Project pursuant to the Memorandum of Understanding Implementing One Federal Decision under Executive Order 13807 signed on April 10, 2018. Major Infrastructure Projects are defined as projects for which multiple authorizations by Federal agencies will be required and the lead Federal agency has determined that it will prepare an Environmental Impact Statement under the National Environmental Policy Act.¹

¹ 42 U.S.C. (United States Code) 4321 et seq. For more information on One Federal Decision, visit our website at https://www.ferc.gov/industries/gas/gen-info/one-federal.asp.

Any questions concerning this application may be directed to Robert Powers, Commonwealth LNG, LLC, One Riverway, Suite 500, Houston, Texas 77056, by telephone at (346) 352-4444 or by email at RPowers@teamcpl.com.

On August 15, 2017, Commission staff granted the applicant's request to utilize the Pre-Filing Process and assigned Docket No. PF17-8-000 to staff activities involving the project. Now, as of the filing of this application on August 20, 2019, the Pre-Filing Process for this project has ended. From this time forward, this proceeding will be conducted in Docket No. CP19-502-000, as noted in the caption of this Notice.

Specifically, the Commonwealth LNG Project would be located on the west side of the Calcasieu Ship Channel near its entrance to the Gulf of Mexico in Cameron Parish, Louisiana and it will consist of one liquefied natural gas (LNG) plant that will include six liquefaction trains with a peak capacity of 9.5 MTPA of LNG; six full-containment LNG storage tanks with a capacity of 240,000 cubic meters of LNG storage; one marine loading berth; and a 3.04 miles of 30-inch-diameter natural gas pipeline that will connect the LNG facility with the existing interstate and intrastate pipeline systems of Kinetica Partners, LLC and EnLink Bridgeline Holdings, LP for the purpose of supplying feed gas to the project.

Pursuant to section 157.9 of the Commission's rules (18 CFR 157.9), within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, and will be notified of any meetings associated with the Commission's environmental review process. Environmental commentors will not be required to serve copies of filed documents on all other parties. However, the non-party commentors will not receive copies of all documents filed by other parties or issued by the Commission and will not have the right to seek court review of the Commission's final order.

The Commission strongly encourages electronic filings of comments, protests and interventions in lieu of paper using the eFiling link at http://www.ferc.gov. Persons unable to file electronically should submit an original and 7 copies of the protest or intervention to the Federal Energy regulatory Commission, 888 First Street NE, Washington, DC 20426.

Comment Date: 5 p.m. Eastern Time, September 24, 2019.

Dated: September 3, 2019.
Nathaniel J. Davis, Sr.,
Deputy Secretary.

[FR Doc. 2019-19428 Filed 9-6-19; 8:45 am]

BILLING CODE 6717-01-P